FEDERAL COMMUNICATIONS COMMISSION

Notice of Public Information Collection(s) Being Reviewed by the Federal Communications Commission for Extension Under Delegated Authority

November 21, 2005.

SUMMARY: The Federal Communications Commission, as part of its continuing effort to reduce paperwork burden invites the general public and other Federal agencies to take this opportunity to comment on the following information collection(s), as required by the Paperwork Reduction Act (PRA) of 1995, Public Law No. 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before January 30, 2006. If you anticipate that you will be submitting comments, but find it difficult to do so within the period of time allowed by this notice, you should advise the contact listed below as soon as possible.

ADDRESSES: You may submit all your Paperwork Reduction Act (PRA) comments by e-mail or U.S. postal mail. To submit your comments by e-mail send them to PRA@fcc.gov. To submit your comments by U.S. mail, mark them to the attention of Cathy Williams, Federal Communications Commission, Room 1-C823, 445 12th Street, SW., Washington, DC 20554.

FOR FURTHER INFORMATION CONTACT: For additional information about the information collection(s) send an e-mail to PRA@fcc.gov or contact Cathy Williams at (202) 418-2918.

SUPPLEMENTARY INFORMATION:

OMB Control Number: 3060-0178.

Title: Section 73.1560, Operating Power and Mode Tolerances.

Form Number: Not applicable.

Type of Review: Extension of a currently approved collection.

Respondents: Business or other for-profit entities.

Number of Respondents: 50.

Estimated Time per Response: 1 hour.

Frequency of Response: On occasion reporting requirement.

Total Annual Burden: 50 hours.

Total Annual Cost: None.

Privacy Impact Assessment: No impact(s).

Needs and Uses: 47 CFR 73.1560 requires licensees of AM, FM or TV broadcast stations to file notification with the FCC when operating at reduced power for 10 consecutive days, upon restoration to normal operations, and to file a written request for additional time when operation cannot be restored within 30 days. The data is used by FCC staff to maintain complete and accurate data about station operations.

OMB Control Number: 3060-0181.

Title: Section 73.1615, Operating During Modification of Facilities.

Form Number: Not applicable.

Type of Review: Extension of a currently approved collection.

Respondents: Business or other for-profit entities.

Number of Respondents: 110.

Estimated Time per Response: 0.17-1 hour.

Frequency of Response: On occasion reporting requirement.

Total Annual Burden: 27 hours.

Total Annual Cost: None.

Privacy Impact Assessment: No impact(s).

Needs and Uses: 47 CFR 73.1615(c) requires notification to the FCC by a licensee of an AM, FM, or TV station when it is in the process of modifying existing facilities as authorized by a construction permit and it becomes necessary either to discontinue operation or to operate with temporary facilities. If such licensee needs to discontinue operation or to operate with temporary facilities for more than 30 days, then an informal letter request must be sent to the FCC prior to the 30th day.

47 CFR 73.1615(d) requires the licensee of an AM station holding a construction permit which authorizes both a change in frequency and directional facilities to obtain authority from the FCC prior to using any new installation authorized by the permit, or using temporary facilities. This request is to made by letter 10 days prior to the date on which the temporary operation is to commence. The letter shall describe the operating modes and the facilities to be used.

OMB Control Number: 3060-0564.

Title: Section 76.924, Cost Accounting and Cost Allocation Requirements.

Form Number: Not applicable.

Type of Review: Extension of a currently approved collection.

Respondents: Business or other for-profit entities.

Number of Respondents: 50.

Estimated Time per Response: 40 hours.

Frequency of Response: Recordkeeping requirement; Third party disclosure requirement.

Total Annual Burden: 2,000 hours.

Total Annual Cost: None.

Privacy Impact Assessment: No impact(s).

Needs and Uses: 47 CFR 76.924(b) of the Commission's rules specifies cost accounting and cost allocation requirements for regulated cable operators. 47 CFR 76.924 was established as part of the cable rate regulation requirements set forth in the Cable Television Consumer Protection and Competition Act of 1992 (“1992 Cable Act”). This collection accounts for the burden imposed on cable operators to rearrange their accounting records to be in compliance with the requirements set forth in 47 CFR 76.924. This burden should be considered a one-time only recordkeeping requirement for new cable operators. Information derived from accounting records that are arranged in compliance with 47 CFR 76.924 is used by the cable operators themselves when completing rate filings and by local franchising authorities when reviewing rate filings.

Federal Communications Commission.
William F. Caton,
Deputy Secretary.

[FR Doc. E5-6581 Filed 11-29-05; 8:45 am]

BILLING CODE 6712-01-P